DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: August 18, 2016.
Roy E. Wright,
Deputy Associate Administrator for Insurance and Mitigation, Department of Homeland Security, Federal Emergency Management Agency.

State and county | Location and case No. | Chief executive officer of community | Community map repository | Effective date of modification | Community No.
Alabama:
Coffee (FEMA Docket No.: B-1618) | City of Enterprise (15-04-A168P) | The Honorable Kenneth W. Boswell, Mayor, City of Enterprise, P.O. Box 311000, Enterprise, AL 36330 | City Hall, 501 South Main Street, Enterprise, AL 36331 | July 11, 2016 | 010045
Tuscaloosa (FEMA Docket No.: B-1614) | City of Tuscaloosa (16-04-1952X) | The Honorable Walter Maddox, Mayor, City of Tuscaloosa, P.O. Box 2089, Tuscaloosa, AL 35401 | Engineering Department, 2201 University Boulevard, Tuscaloosa, AL 35401 | July 5, 2016 | 010203
Arkansas: Benton (FEMA Docket No.: B-1618) | Unincorporated areas of Benton County (15-06-4245P) | The Honorable Robert D. Clinard, Benton County Judge, 215 East Central Avenue, Bentonville, AR 72712 | Planning Department, 905 Northwest 8th Street, Bentonville, AR 72712 | July 20, 2016 | 050419
Colorado:
Boulder (FEMA Docket No.: B-1618) | City of Boulder (15-08-0360P) | The Honorable Suzanne Jones, Mayor, City of Boulder, P.O. Box 791, Boulder, CO 80306 | Planning and Development Services Department, 1739 Broadway Street, Boulder, CO 80302 | July 22, 2016 | 080024
Weld (FEMA Docket No.: B-1618) | City of Greeley (15-08-0573P) | The Honorable Tom Norton, Mayor, City of Greeley, 1000 10th Street, Greeley, CO 80631 | City Hall, 1000 10th Street, Greeley, CO 80631 | July 14, 2016 | 080184
Weld (FEMA Docket No.: B-1618) | Unincorporated areas of Weld County (15-08-0573P) | The Honorable Mike Freeman, Chairman, Weld County Board of Commissioners, P.O. Box 758, Greeley, CO 80632 | Weld County Planning and Zoning Department, 1555 North 17th Avenue, Greeley, CO 80631 | July 14, 2016 | 080266
Florida:
Broward (FEMA Docket No.: B-1618) | City of Fort Lauderdale (15-04-7586P) | The Honorable John P. Seiler, Mayor, City of Fort Lauderdale, 100 North Andrews Avenue, 8th Floor, Fort Lauderdale, FL 33301 | Building Services Department, 700 Northwest 19th Avenue, Plantation, FL 33311 | July 14, 2016 | 125105
Broward (FEMA Docket No.: B-1618) | Unincorporated areas of Broward County (15-04-7586P) | Ms. Bertha Henry, Broward County Administrator, 115 South Andrews Avenue, Fort Lauderdale, FL 33301 | Broward County Environmental Licensing and Building Permitting Division, 1 North University Drive, Fort Lauderdale, FL 33311 | July 14, 2016 | 125093
Bay (FEMA Docket No.: B-1614) | City of Pompano Beach (15-04-9775P) | The Honorable Lamar Fisher, Mayor, City of Pompano Beach, 100 West Atlantic Boulevard, Pompano Beach, FL 33060 | Building Inspections Division, 100 West Atlantic Boulevard, Pompano Beach, FL 33060 | July 7, 2016 | 120055
Indian River (FEMA Docket No.: B-1618) | City of Vero Beach (16-04-2464P) | The Honorable Jay Kramer, Mayor, City of Vero Beach, 1053 20th Place, Vero Beach, FL 32960 | City Hall, 1053 20th Place, Vero Beach, FL 32960 | July 26, 2016 | 120124
Lake (FEMA Docket No.: B-1618) | Unincorporated areas of Lake County (15-04-2425P) | The Honorable Sean Parks, Chairman, Lake County Board of Commissioners, P.O. Box 7800, Tavares, FL 32778 | Lake County Public Works Department, 323 North Sinclair Avenue, Tavares, FL 32778 | July 25, 2016 | 120421
Manatee (FEMA Docket No.: B-1614) | Unincorporated areas of Manatee County (16-04-1946X) | The Honorable Vanessa Baugh, Chair, Manatee County Board of Commissioners, P.O. Box 1000, Bradenton, FL 34206 | Manatee County Building and Development Services Department, 1112 Manatee Avenue West, Bradenton, FL 34205 | July 5, 2016 | 120153
Miami-Dade (FEMA Docket No.: B-1614) | City of Miami (15-04-9311P) | The Honorable Tomás P. Regalado, Mayor, City of Miami, 3500 Pan American Drive, Miami, FL 33133 | Building Department, 444 Southwest 2nd Avenue, 4th Floor, Miami, FL 33130 | July 8, 2016 | 120650
Miami-Dade (FEMA Docket No.: B-1618) | City of Miami (16-04-1012P) | The Honorable Tomás P. Regalado, Mayor, City of Miami, 3500 Pan American Drive, Miami, FL 33133 | Emergency Management Department, 444 Southwest 2nd Avenue, 10th Floor, Miami, FL 33130 | July 29, 2016 | 120650
Osceola (FEMA Docket No.: B-1618) | City of Kissimmee (14-04-A515P) | The Honorable Jim Swan, Mayor, City of Kissimmee, 101 Church Street, Kissimmee, FL 34741 | Engineering Department, 101 Church Street, Kissimmee, FL 34741 | July 27, 2016 | 120190
Osceola (FEMA Docket No.: B-1618) | Unincorporated areas of Osceola County (14-04-A515P) | The Honorable Viviana Janer, Chair, Osceola County Board of Commissioners, 1 Courthouse Square, Suite 4700, Kissimmee, FL 34741 | Osceola County Stormwater Department, 1 Courthouse Square, Suite 3100, Kissimmee, FL 34741 | July 27, 2016 | 120189
St. Lucie (FEMA Docket No.: B-1618) | City of Fort Pierce (16-04-2206P) | The Honorable Linda Hudson, Mayor, City of Fort Pierce, 100 North U.S. Highway 1, Fort Pierce, FL 34950 | Building Department, 100 North U.S. Highway 1, Fort Pierce, FL 34950 | July 26, 2016 | 120286
St. Lucie (FEMA Docket No.: B-1618) | Unincorporated areas of St. Lucie County (16-04-2206P) | The Honorable Kim Johnson, Chairman, St. Lucie County Board of Commissioners, 2300 Virginia Avenue, Fort Pierce, FL 34982 | St. Lucie County Planning and Development Department, 2300 Virginia Avenue, Fort Pierce, FL 34982 | July 26, 2016 | 120285
Volusia (FEMA Docket No.: B-1614) | City of Orange City (15-04-9264P) | The Honorable Tom Laputka, Mayor, City of Orange City, 205 East Graves Avenue, Orange City, FL 32763 | City Hall, 205 East Graves Avenue, Orange City, FL 32763 | July 5, 2016 | 120633
Georgia: Chatham (FEMA Docket No.: B-1618) | City of Pooler (16-04-1717P) | The Honorable Mike Lamb, Mayor, City of Pooler, 100 Southwest Highway 80, Pooler, GA 31322 | Zoning Administration Division, 100 Southwest Highway 80, Pooler, GA 31322 | July 13, 2016 | 130261
Kentucky:
Hardin (FEMA Docket No.: B-1618) | City of Elizabethtown (15-04-9058P) | The Honorable Edna Berger, Mayor, City of Elizabethtown, P.O. Box 550, Elizabethtown, KY 42702 | City Hall, 200 West Dixie Avenue, Elizabethtown, KY 42701 | July 19, 2016 | 210095
Hardin (FEMA Docket No.: B-1618) | Unincorporated areas of Hardin County (15-04-9058P) | The Honorable Harry L. Berry, Hardin County Judge/Executive, P.O. Box 568, Elizabethtown, KY 42702 | Hardin County Planning and Development Commission, 150 North Provident Way, Suite 225, Elizabethtown, KY 42701 | July 19, 2016 | 210094
Louisiana: East Baton Rouge (FEMA Docket No.: B-1618) | City of Central (15-06-4438P) | The Honorable Jr. Shelton, Mayor, City of Central, 13421 Hooper Road, Suite 9, Central, LA 70818 | Planning and Zoning Commission, 6703 Sullivan Road, Central, LA 70739 | July 15, 2016 | 220060
Massachusetts:
Barnstable (FEMA Docket No.: B-1618) | Town of Chatham (16-01-0500P) | The Honorable Jeffrey S. Dykens, Chairman, Town of Chatham Board of Selectmen, 549 Main Street, Chatham, MA 02633 | Community Development Department, 261 George Ryder Road, Chatham, MA 02633 | July 8, 2016 | 250004
Barnstable (FEMA Docket No.: B-1618) | Town of Harwich (16-01-0500P) | The Honorable Peter S. Hughes, Chairman, Town of Harwich Board of Selectmen, 732 Main Street, Harwich, MA 02645 | Town Hall, 732 Main Street, Harwich, MA 02645 | July 8, 2016 | 250008
Mississippi:
Copiah (FEMA Docket No.: B-1618) | City of Hazlehurst (15-04-7795P) | The Honorable Henry Banks, Mayor, City of Hazlehurst, 209 South Extension Street, Hazlehurst, MS 39083 | City Hall, 209 South Extension Street, Hazlehurst, MS 39083 | July 28, 2016 | 280046
Copiah (FEMA Docket No.: B-1618) | Unincorporated areas of Copiah County (15-04-7795P) | The Honorable Perry L. Hood, President, Copiah County Board of Supervisors, P.O. Box 551, Hazlehurst, MS 39083 | Copiah County Circuit Clerk's Office, 100 Caldwell Street, Hazlehurst, MS 39083 | July 28, 2016 | 280221
Montana: Ravalli (FEMA Docket No.: B-1618) | Unincorporated areas of Ravalli County (16-08-0080P) | The Honorable Ray Hawk, Chairman, Ravalli County Board of Commissioners, 215 South 4th Street, Suite A, Hamilton, MT 59840 | Ravalli County Planning Department, 215 South 4th Street, Suite F, Hamilton, MT 59840 | July 28, 2016 | 300061
New Hampshire: Rockingham (FEMA Docket No.: B-1618) | Town of Windham (15-01-1350P) | The Honorable Joel Desilets, Chairman, Town of Windham Board of Selectmen, 3 North Lowell Road, Windham, NH 03087 | Community Development Department, 3 North Lowell Road, Windham, NH 03087 | July 14, 2016 | 330144
North Carolina: Burke (FEMA Docket No.: B-1628) | Unincorporated areas of Burke County (15-04-9342P) | The Honorable Wayne F. Abele, Sr, Chairman, Burke County Board of Commissioners, P.O. Box 219, Morganton, NC 28680 | Burke County Community Development Department, 110 North Green Street,, Morganton, NC 28655 | Aug. 1, 2016 | 370034
Oklahoma: Tulsa (FEMA Docket No.: B-1618) | City of Tulsa (15-06-0681P) | The Honorable Dewey Bartlett, Jr., Mayor, City of Tulsa, 175 East 2nd Street, 15th Floor, Tulsa, OK 74103 | Stormwater Design Department, 2317 South Jackson Avenue, Suite 302, Tulsa, OK 74103 | July 19, 2016 | 405381
Pennsylvania: Delaware (FEMA Docket No.: B-1618) | Borough of Trainer (15-03-2447P) | The Honorable Frances Zalewski, Mayor, Borough of Trainer, 824 Main Street, Trainer, PA 19061 | Borough Hall, 824 Main Street, Trainer, PA 19061 | July 13, 2016 | 420437
Tennessee:
Hamblen (FEMA Docket No.: B-1618) | City of Morristown (15-04-7679P) | The Honorable Gary Chesney, Mayor, City of Morristown, 100 West 1st North Street, Morristown, TN 37814 | Community Development and Planning Department, 100 West 1st North Street, Morristown, TN 37814 | July 7, 2016 | 470070
Sequatchie (FEMA Docket No.: B-1628) | City of Dunlap (16-04-1892P) | The Honorable Dwain Land, Mayor, City of Dunlap, P.O. Box 546, Dunlap, TN 37327 | City Hall, 15595 Rankin Avenue, Dunlap, TN 37327 | July 8, 2016 | 470270
Texas:
Bexar (FEMA Docket No.: B-1618) | City of San Antonio (16-06-0036P) | The Honorable Ivy R. Taylor, Mayor, City of San Antonio, P.O. Box 839966, San Antonio, TX 78283 | Transportation and Capital Improvements Department, Storm Water Division, 1901 South Alamo Street, 2nd Floor, San Antonio, TX 78204 | July 11, 2016 | 480045
Bexar (FEMA Docket No.: B-1618) | City of San Antonio (16-06-0941P) | The Honorable Ivy R. Taylor, Mayor, City of San Antonio, P.O. Box 839966, San Antonio, TX 78283 | Transportation and Capital Improvements Department, Storm Water Division, 1901 South Alamo Street, 2nd Floor, San Antonio, TX 78204 | July 15, 2016 | 480045
Bexar (FEMA Docket No.: B-1628) | Unincorporated areas of Bexar County (15-06-3161P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | July 22, 2016 | 480035
Collin (FEMA Docket No.: B-1618) | City of Frisco (15-06-3867P) | The Honorable Maher Maso, Mayor, City of Frisco, 6101 Frisco Square Boulevard, Frisco, TX 75034 | Engineering Services Department, 6101 Frisco Square Boulevard, 3rd Floor, Frisco, TX 75034 | July 11, 2016 | 480134
Collin (FEMA Docket No.: B-1618) | City of McKinney (15-06-3643P) | The Honorable Brian Loughmiller, Mayor, City of McKinney, P.O. Box 517, McKinney, TX 75070 | Engineering Department, 221 North Tennessee Street, McKinney, TX 75069 | July 11, 2016 | 480135
Collin (FEMA Docket No.: B-1618) | City of McKinney (16-06-0893P) | The Honorable Brian Loughmiller, Mayor, City of McKinney, P.O. Box 517, McKinney, TX 75070 | Engineering Department, 221 North Tennessee Street, McKinney, TX 75069 | July 11, 2016 | 480135
Collin (FEMA Docket No.: B-1628) | Town of Westminster (16-06-0644P) | Mr. Phil Goplin, President, Westminster Special Utility District, 409 East Houston Street, Westminster, TX 75485 | Town Hall, 309 West Houston Street, Westminster, TX 75069 | June 17, 2016 | 480758
Collin (FEMA Docket No.: B-1628) | Unincorporated areas of Collin County (16-06-0644P) | The Honorable Keith Self, Collin County Judge, 2300 Bloomdale Road, Suite 4192, McKinney, TX 75071 | Collin County Engineering Department, 4690 Community Avenue, Suite 200, McKinney, TX 75071 | June 17, 2016 | 480130
Denton (FEMA Docket No.: B-1618) | City of Fort Worth (15-06-1721P) | The Honorable Betsy Price, Mayor, City of Fort Worth, 1000 Throckmorton Street, Fort Worth, TX 76102 | Stormwater Management Division, 1000 Throckmorton Street, Fort Worth, TX 76102 | July 1, 2016 | 480596
Denton (FEMA Docket No.: B-1618) | Town of Northlake (15-06-1721P) | The Honorable Peter Dewing, Mayor, Town of Northlake, 1400 FM 407, Northlake, TX 76247 | Public Works Department, 1400 FM 407, Northlake, TX 76247 | July 1, 2016 | 480782
Denton (FEMA Docket No.: B-1614) | Town of Trophy Club (15-06-3923P) | The Honorable Nick Sanders, Mayor, Town of Trophy Club, 100 Municipal Drive, Trophy Club, TX 76262 | Community Development Department, 100 Municipal Drive, Trophy Club, TX 76262 | July 7, 2016 | 481606
Denton (FEMA Docket No.: B-1618) | Unincorporated areas of Denton County (15-06-1721P) | The Honorable Mary Horn, Denton County Judge, 110 West Hickory Street, 2nd Floor, Denton, TX 76201 | Public Works Engineering Division, 1505 East McKinney Street, Suite 175, Denton, TX 76209 | July 1, 2016 | 480774
Denton (FEMA Docket No.: B-1614) | Unincorporated areas of Denton County (15-06-3923P) | The Honorable Mary Horn, Denton County Judge, 110 West Hickory Street, 2nd Floor, Denton, TX 76201 | Denton County Public Works and Planning Division, 1505 East McKinney Street, Suite 175, Denton, TX 76209 | July 7, 2016 | 480774
Lamar (FEMA Docket No.: B-1618) | City of Paris (14-06-4102P) | The Honorable AJ Hashmi, Mayor, City of Paris, 135 Southeast 1st Street, Paris, TX 75460 | Engineering, Planning and Development Department, 135 Southeast 1st Street, Paris, TX 75460 | July 11, 2016 | 480427
Midland (FEMA Docket No.: B-1618) | City of Midland (15-06-4466P) | The Honorable Jerry Morales, Mayor, City of Midland, 300 North Loraine Street, Midland, TX 79701 | Engineering Department, 300 North Loraine Street, Midland, TX 79701 | July 20, 2016 | 480477
Montgomery (FEMA Docket No.: B-1618) | Unincorporated areas of Montgomery County (16-06-0123P) | The Honorable Craig Doyal, Montgomery County Judge, 501 North Thompson, Suite 401, Conroe, TX 77301 | Montgomery County Engineering Department, 501 North Thompson Street, Suite 103, Conroe, TX 77301 | July 14, 2016 | 480483
Parker (FEMA Docket No.: B-1618) | City of Weatherford (15-06-1755P) | The Honorable Dennis Hooks, Mayor, City of Weatherford, P.O. Box 255, Weatherford, TX 76086 | Department of Code Enforcement, 303 Palo Pinto Street, Weatherford, TX 76086 | July 20, 2016 | 480522
Travis (FEMA Docket No.: B-1618) | City of Austin (15-06-3816P) | The Honorable Steve Adler, Mayor, City of Austin, P.O. Box 1088, Austin, TX 78767 | Watershed Engineering Division, 505 Barton Springs Road, 12th Floor, Austin, TX 78767 | July 5, 2016 | 480624
Travis (FEMA Docket No.: B-1614) | City of Pflugerville (16-06-0047P) | The Honorable Jeff Coleman, Mayor, City of Pflugerville, P.O. Box 589, Pflugerville, TX 78691 | Development Services Center, 201-B East Pecan Street, Pflugerville, TX 78660 | July 11, 2016 | 481028
Williamson (FEMA Docket No.: B-1618) | Unincorporated areas of Williamson County (15-06-4383P) | The Honorable Dan A. Gattis, Williamson County Judge, 710 South Main Street, Suite 101, Georgetown, TX 78626 | Williamson County Department of Infrastructure, 3151 Southeast Inner Loop, Suite B, Georgetown, TX 78626 | July 7, 2016 | 481079
Utah:
Utah (FEMA Docket No.: B-1618) | City of Spanish Fork (15-08-0248P) | The Honorable Steve Leifson, Mayor, City of Spanish Fork, 40 South Main Street, Spanish Fork, UT 84660 | Engineering Department, 40 South Main Street, Spanish Fork, UT 84660 | July 8, 2016 | 490241
Utah (FEMA Docket No.: B-1618) | Unincorporated areas of Utah County (15-08-0248P) | The Honorable Larry Ellertson, Chairman, Utah County Board of Commissioners, 100 East Center Street, Suite 2300, Provo, UT 84606 | Utah County Community Development Department, 51 South University Avenue, Suite 117, Provo, UT 84601 | July 8, 2016 | 495517
Virginia:
Fairfax (FEMA Docket No.: B-1614) | Unincorporated areas of Fairfax County (15-03-1061P) | The Honorable Edward L. Long, Jr., Fairfax County Executive, 12000 Government Center Parkway, Fairfax, VA 22035 | Fairfax County Stormwater Planning Division, 12000 Government Center Parkway, Suite 449, Fairfax, VA 22035 | July 1, 2016 | 515525
York (FEMA Docket No.: B-1614) | Unincorporated areas of York County (16-03-0468P) | The Honorable Jeffrey D. Wassmer, Chairman, York County Board of Supervisors, P.O. Box 532, Yorktown, VA 23690 | York County Stormwater Engineering Division, P.O. Box 532, Yorktown, VA 23690 | July 1, 2016 | 510182

[FR Doc. 2016-22794 Filed 9-21-16; 8:45 am]

BILLING CODE 9110-12-P